FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 17, 2020.

A. Federal Reserve Bank of Chicago (Colette A. Fried, Assistant Vice President) 230 South LaSalle Street, Chicago, Illinois 60690-1414:

1. S.C. Investments, L.P., Gerald F. Fitzgerald, general partner, the Fitzgerald Dynasty Trust, Denise M. Fitzgerald, trustee, all of Palatine, Illinois; the James G. Fitzgerald 1988 Trust, James G. Fitzgerald, trustee, the Timothy E. Fitzgerald 2011 Trust, Timothy J. Fitzgerald and James G. Fitzgerald, as co-trustees, the Whooper Trust, Jane M. Fitzgerald, trustee, all of Naples, Florida; the Andrew J. Fitzgerald 2011 Trust, Andrew J. Fitzgerald, trustee, Santa Barbara, California; to join the Fitzgerald Family Control Group, a group acting in concert, and retain voting shares of LaSalle Bancorp, and thereby indirectly retain voting shares of Hometown National Bank, both of LaSalle, Illinois.

Board of Governors of the Federal Reserve System, May 28, 2020.
Yao-Chin Chao,
Assistant Secretary of the Board.

[FR Doc. 2020-11902 Filed 6-2-20; 8:45 am]

BILLING CODE P